DEPARTMENT OF TRANSPORTATION

Coast Guard

[USCG-2002-13262]

National Boating Safety Advisory Council

AGENCY: Coast Guard, DOT.

ACTION: Notice of meetings.

SUMMARY: The National Boating Safety Advisory Council (NBSAC) and its subcommittees on regulatory review II of recreational boating safety regulations, boats and associated equipment, aftermarket marine equipment, and prevention through people will meet to discuss various issues relating to recreational boating safety. All meetings will be open to the public.

DATES: NBSAC will meet on Monday, October 28, 2002, from 8:30 a.m. to 5 p.m. and Tuesday, October 29 from 8:30 a.m. to 12 noon. The Recreational Boating Safety Regulatory Review II Subcommittee will meet on Saturday, October 26, 2002, from 1:30 p.m. to 4:30 p.m. The Boats and Associated Equipment Subcommittee will meet on Sunday, October 27, 2002, from 9 a.m. to 12 noon. The Aftermarket Marine Equipment Subcommittee will meet on Sunday, October 27, 2002, from 1 p.m. to 3 p.m. The Prevention Through People Subcommittee will meet on Sunday, October 27, 2002, from 3:30 p.m. to 5:30 p.m. These meetings may close early if all business is finished. Written material and requests to make oral presentations should reach the Coast Guard on or before October 15, 2002. Requests to have a copy of your material distributed to each member of the committee or subcommittees should reach the Coast Guard on or before October 7, 2002.

ADDRESSES: NBSAC will meet at the Marriott San Mateo, 1770 South Amphlett Blvd., San Mateo, CA 94010. The subcommittee meetings will be held at the same address. Send written material and requests to make oral presentations to Mr. Jeff Hoedt, Executive Director of NBSAC, Commandant (G-OPB-1), U.S. Coast Guard Headquarters, 2100 Second Street SW., Washington, DC 20593-0001. This notice is available on the Internet at http://dms.dot.gov or at the Web site for the Office of Boating Safety at URL address www.uscgboating.org.

FOR FURTHER INFORMATION CONTACT: Jeff Hoedt, Executive Director of NBSAC, telephone 202-267-0950, fax 202-267-4285. You may obtain a copy of this notice by calling the U.S. Coast Guard Infoline at 1-800-368-5647.

SUPPLEMENTARY INFORMATION: Notice of these meetings is given under the Federal Advisory Committee Act, 5 U.S.C. App. 2.

Tentative Agendas of Meetings

National Boating Safety Advisory Council (NBSAC). The agenda includes the following:

(1) Executive Director's report.

(2) Chairman's session.

(3) Recreational Boating Safety Regulatory Review II Subcommittee report.

(4) Boats and Associated Equipment Subcommittee report.

(5) Aftermarket Marine Equipment Subcommittee report.

(6) Prevention Through People Subcommittee report.

(7) Recreational Boating Safety Program report.

(8) Coast Guard Auxiliary report.

(9) Canadian Coast Guard report.

(10) National Association of State Boating Law Administrators Report.

(11) Presentation on the promulgation and monitoring of DSC—VHF emergency radio service.

(12) Wallop Breaux reauthorization update.

(13) Vessel Identification System (VIS) update.

(14) NOAA's activities in regard to navigation charts and recreational boaters.

(15) Aids to Navigation Issues That Affect Recreational Boaters.

(16) Interpretation on Barge Lighting—relationship between the recreational boaters and commercial vessel operators.

(17) Impact of proposed Department of Homeland Security on the Recreational Boating Safety Program.

Recreational Boating Safety Regulatory Review II Subcommittee. The agenda includes the following:

(1) Review recreational boating safety regulations concerning requirements for manufacturers and importers of recreational vessels to prevent drownings (33 CFR part 183, subparts B, C, D, F, G, H, and L).

(2) Present recommendations to the Council as to whether the current recreational boating safety regulations need to be changed or removed based on a review of need, technical accuracy, cost/benefit, problems and alternatives.

Boats and Associated Equipment Subcommittee. The agenda includes the following: Discuss current regulatory projects, grants, contracts and new issues impacting boats and associated equipment.

Aftermarket Marine Equipment Subcommittee. The agenda includes the following: Discuss current regulatory projects, grants, contracts and new issues impacting aftermarket marine equipment.

Prevention Through People Subcommittee. The agenda includes the following: Discuss current regulatory projects, grants, contracts and new issues impacting prevention through people.

Procedural

All meetings are open to the public. Please note that the meetings may close early if all business is finished. At the Chairs' discretion, members of the public may make oral presentations during the meetings. If you would like to make an oral presentation at a meeting, please notify the Executive Director no later than October 15, 2002. Written material for distribution at a meeting should reach the Coast Guard no later than October 7, 2002. If you would like a copy of your material distributed to each member of the committee or subcommittee in advance of a meeting, please submit 25 copies to the Executive Director no later than October 7, 2002.

Information on Services for Individuals With Disabilities

For information on facilities or services for individuals with disabilities or to request special assistance at the meetings, contact the Executive Director as soon as possible.

Dated: September 16, 2002.
Harvey E. Johnson,
Rear Admiral, U.S. Coast Guard, Director of Operations Policy.

[FR Doc. 02-24199 Filed 9-23-02; 8:45 am]

BILLING CODE 4910-15-P